DEPARTMENT OF THE INTERIOR

Fish and Wildlife Service

[FWS-R6-ES-2013-N064; 60120-1113-0000-C2]

Endangered and Threatened Wildlife and Plants; Draft Conservation Strategy for the Northern Continental Divide Ecosystem Grizzly Bear

AGENCY: Fish and Wildlife Service, Interior.

ACTION: Notice of document availability; request for comments.

SUMMARY: The U.S. Fish and Wildlife Service (Service) announces the availability of a draft Conservation Strategy for the Northern Continental Divide Ecosystem grizzly bear (Ursus arctos horriblis) population for public review and input. The strategy will be the post-delisting management plan for the NCDE grizzly bears and their habitat. This document is necessary to demonstrate the adequacy of regulatory mechanisms in order to delist this grizzly population.

Grizzly bears are currently federally listed as threatened in the lower 48 States under the Endangered Species Act of 1973 (16 U.S.C. 1531 et seq.), as amended (Act). The Service solicits review and comment from the public on this draft document.

DATES: Comments on the draft revised recovery plan must be received on or before August 1, 2013.

ADDRESSES: An electronic copy of the draft Conservation Strategy for the Northern Continental Divide grizzly bear population is available at http://www.fws.gov/endangered/species/recovery-plans.html. Hard copies of the draft strategy are available by request from the Grizzly Bear Recovery Coordinator, U.S. Fish and Wildlife Service, University Hall, Room 309, University of Montana, Missoula, MT 59812; telephone 406-243-4903. Submit comments on the draft Conservation Strategy for the Northern Continental Divide grizzly bear population to the Grizzly Bear Recovery Coordinator at this same address.

FOR FURTHER INFORMATION CONTACT: Project Leader, at the above address, or telephone 406-243-4903.

SUPPLEMENTARY INFORMATION:

Background

Restoring an endangered or threatened animal or plant to the point where it is again a secure, self-sustaining member of its ecosystem is a primary goal of the Service's endangered species program. Conservation Strategy for the Northern Continental Divide Ecosystem of the grizzly bear (Ursus arctos horribilis) demonstrates the adequacy of regulatory mechanisms that will remain in place post-delisting to assure the health of this grizzly population. The Conservation Strategy describes the management and monitoring direction to maintain a recovered grizzly bear population in the NCDE and documents the commitment of signatory agencies to the Memorandum of Understanding implementing the Strategy to continue to manage the grizzly and its habitat as per the specifics in the Strategy document. The NCDE Conservation Strategy is the post-delisting management plan for this population and its habitat.

Request for Public Comments

The Service hereby solicits public comments on a draft Northern Continental Divide Ecosystem Conservation Strategy. All comments received by the date specified in DATES will be considered prior to approval of the final Northern Continental Divide Ecosystem Conservation Strategy. Written comments and materials regarding the Strategy should be addressed to the Grizzly Bear Recovery Coordinator (see ADDRESSES section). Comments and materials received will be available, by appointment, for public inspection during normal business hours at the above address. All public comment information provided (e.g., names, addresses, letters of comment, input recorded during meetings) becomes part of the official public record. If requested under the Freedom of Information Act (5 U.S.C. 552) by a private citizen or organization, the Service may provide copies of such information.

Authority

The authority for this action is section 4(f) of the Act, 16 U.S.C. 1533(f).

Dated: April 17, 2013.
Noreen E. Walsh,
Regional Director, Denver, Colorado.

[FR Doc. 2013-10492 Filed 5-2-13; 8:45 am]

BILLING CODE 4310-55-P